DEPARTMENT OF COMMERCE

International Trade Administration

[A-201-836]

Light-Walled Rectangular Pipe and Tube From Mexico: Amended Final Results and Partial Rescission of Antidumping Duty Administrative Review; 2022-2023

AGENCY: Enforcement and Compliance, International Trade Administration, Department of Commerce.

SUMMARY: The U.S. Department of Commerce (Commerce) is amending the final results of the administrative review of the antidumping duty order on light-walled rectangular pipe and tube (LWRPT) from Mexico. This notice rescinds this review for 11 companies as a correction. The period of review (POR), August 1, 2022, through July 31, 2023.

DATES: Applicable August 12, 2025.

FOR FURTHER INFORMATION CONTACT: John Conniff or Charles Doss, AD/CVD Operations, Office III, Enforcement and Compliance, International Trade Administration, U.S. Department of Commerce, 1401 Constitution Avenue NW, Washington, DC 20230; telephone: (202) 482-1009 or (202) 482-4474, respectively.

SUPPLEMENTARY INFORMATION:

Background

On June 16, 2025, Commerce published in the Federal Register the Final Results.¹ Commerce omitted notice of rescission of this review for 11 companies in the Final Results that Commerce previously identified with an intent to rescind in the Preliminary Results.² Commerce is amending the Final Results to correct for this ministerial error.

¹ See Light-Walled Rectangular Pipe and Tube from Mexico: Final Results of Antidumping Duty Administrative Review; 2022-2023, 90 FR 25232 (June 16, 2025), and accompanying Issues and Decision Memorandum (IDM).

² See Light-Walled Rectangular Pipe and Tube from Mexico: Preliminary Results and Partial Rescission of Antidumping Duty Administrative Review; 2022-2023, 89 FR 74916, 74917 (September 13, 2024) (Preliminary Results).

Legal Framework

Section 751(h) of the Tariff Act of 1930, as amended (the Act), defines a “ministerial error” as including “errors in addition, subtraction, or other arithmetic function, clerical errors resulting from inaccurate copying, duplication, or the like, and any other unintentional error which the administering authority considers ministerial.” ³ With respect to final results of administrative reviews, 19 CFR 351.224(e) provides that Commerce “will analyze any comments received and, if appropriate, correct any . . . ministerial error by amending the final results of review. . . {.}”

³ See 19 CFR 351.224(f).

Ministerial Error

Commerce reviewed the record and finds that the omission of rescission of review language from the Final Results constitutes a ministerial error within the meaning of section 751(h) of the Act and 19 CFR 351.224(f). Specifically, with regard to rescission, we find that not including the rescission language in the Final Results with respect to the 11 companies after notifying parties of our intent to rescind in the Preliminary Results and receiving no comments from any party, was an inadvertent error which we consider ministerial.

Amended Final Results of Review

As a result of correcting the ministerial error, Commerce is rescinding the review with respect to the 11 companies listed below in accordance with 19 CFR 351.213(d)(3).

Rescission of Review, In Part

Pursuant to 19 CFR 351.213(d)(3), it is Commerce's practice to rescind an administrative review of an antidumping duty order where it determines that there were no suspended entries of subject merchandise during the POR.⁴ Normally, upon completion of an administrative review, the suspended entries are liquidated at the antidumping duty assessment rate for the review period.⁵ Therefore, for an administrative review to be conducted, there must be a suspended entry that Commerce can instruct U.S. Customs and Border Protection (CBP) to liquidate at the calculated antidumping duty assessment rate for the review period.⁶

⁴ See, e.g., Certain Carbon and Alloy Steel Cut-to Length Plate from the Federal Republic of Germany: Recission of Antidumping Administrative Review; 2020-2021, 88 FR 4157 (January 24, 2023).

⁵ See 19 CFR 351.212(b)(1).

⁶ See, e.g., Shanghai Sunbeauty Trading Co. v. United States, 380 F. Supp. 3d 1328, 1335-36 (CIT 2019), at 12 (referring to section 751(a) of the Act, the U.S. Court of International Trade (CIT) held that: “While the statute does not explicitly require that an entry be suspended as a prerequisite for establishing entitlement to a review, it does explicitly state the determined rate will be used as the liquidation rate for the reviewed entries. This result can only obtain if the liquidation of entries has been suspended. . .;” see also Certain Frozen Fish Fillets from the Socialist Republic of Vietnam: Final Results of Antidumping Duty Administrative Review and Final Determination of No Shipments; 2018-2019, 86 FR 36102 (July 8, 2021), and accompanying IDM at Comment 4; and Solid Fertilizer Grade Ammonium Nitrate from the Russian Federation: Notice of Rescission of Antidumping Duty Administrative Review, 77 FR 65532 (October 29, 2012) (noting that “for an administrative review to be conducted, there must be a reviewable, suspended entry to be liquidated at the newly calculated assessment rate”).

In the Preliminary Results, Commerce stated its intent to rescind this review with respect to 11 companies pursuant to 19 CFR 351.213(d)(3) and provided interested parties with an opportunity to submit comments on this intent to rescind, including factual information to demonstrate whether there are reviewable entries during the POR for any of the parties listed below.⁷ No interested party provided comment. As a result, we are rescinding this review with respect to these 11 companies: (1) Arco Metal S.A. de C.V.; (2) Fabricaciones y Servicios de Mexico; (3) Galvak, S.A. de C.V.; (4) Grupo Estructuras y Perfiles; (5) Industrias Monterrey S.A. de C.V.; (6) Internacional de Aceros, S.A. de C.V.; (7) PEASA-Productos Especializados de Acero; (8) Talleres Acero Rey S.A. de C.V.; (9) Tuberias Aspe S.A. de C.V.; (10) Tuberia Laguna, S.A. de C.V.; and (11) Tuberias y Derivados S.A. de C.V.

⁷ See Preliminary Results, 89 FR at 74917.

Disclosure

There are no additional details or calculations to disclose for these amended final results in accordance with 19 CFR 351.224(b).

Assessment

For the companies for which we are rescinding this review, antidumping duties shall be assessed at a rate equal to the cash deposit of estimated antidumping duties required at the time of entry, or withdrawal from warehouse, for consumption, in accordance with 19 CFR 351.212(c)(1)(i). Commerce intends to issue these rescission instructions to CBP no earlier than 35 days after the publication of this notice in the Federal Register.

Notification to Importers

This notice serves as a final reminder to importers of their responsibility under 19 CFR 351.402(f)(2) to file a certificate regarding the reimbursement of antidumping duties prior to liquidation of the relevant entries during this review period. Failure to comply with this requirement could result in Commerce's presumption that reimbursement of the antidumping duties occurred and the subsequent assessment of doubled antidumping duties.

Notification Regarding Administrative Protective Orders

This notice also serves as a reminder to parties subject to administrative protective order (APO) of their responsibility concerning the return or destruction of proprietary information disclosed under APO in accordance with 19 CFR 351.305. Timely written notification of the return/destruction of APO materials or conversion to judicial protective order is hereby requested. Failure to comply with the regulations and terms of an APO is a violation which is subject to sanction.

Notification to Interested Parties

This notice is issued and published in accordance with section 751(a)(1) and 777(i)(1) of the Act, and 19 CFR 351.224(e).

Dated: August 5, 2025.
Christopher Abbott,
Deputy Assistant Secretary for Policy and Negotiations, performing the non-exclusive functions and duties of the Assistant Secretary for Enforcement and Compliance.

[FR Doc. 2025-15231 Filed 8-11-25; 8:45 am]

BILLING CODE 3510-DS-P